NATIONAL SCIENCE FOUNDATION

Notice of Permit Applications Received Under the Antarctic Conservation Act of 1978

AGENCY: National Science Foundation.

ACTION: Notice of Permit Applications Received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by September 17, 2018. This application may be inspected by interested parties at the Permit Office, address below.

ADDRESSES: Comments should be addressed to Permit Office, Office of Polar Programs, National Science Foundation, 2415 Eisenhower Avenue, Alexandria, Virginia 22314.

FOR FURTHER INFORMATION CONTACT: Nature McGinn, ACA Permit Officer, at the above address, 703-292-8030, or ACApermits@nsf.gov.

SUPPLEMENTARY INFORMATION: The National Science Foundation, as directed by the Antarctic Conservation Act of 1978 (Pub. L. 95-541, 45 CFR 670 as amended by the Antarctic Science, Tourism and Conservation Act of 1996, has developed regulations for the establishment of a permit system for various activities in Antarctica and designation of certain animals and certain geographic areas a requiring special protection. The regulations establish such a permit system to designate Antarctic Specially Protected Areas.

Application Details

Permit Application: 2019-003

1. Applicant: Caitlin Scarano, 60641 State Route 20, Marblemount, WA 98267.

Activity for Which Permit Is Requested

Enter Antarctic Specially Protected Areas. The applicant, a writer supported by NSF's Antarctic Artists and Writers Program, would enter ASPAs 155, 157, and 158 to visit the Ross Island historic huts. The observations made during these visits will inform the applicant's writing about the Antarctic history, research, and daily life. The applicant would enter the huts with a trained guide and would abide by the management plans of all ASPAs visited. The applicant would not enter ASPA 121, Cape Royds, Ross Island. The results of this work are expected to be useful for outreach and education about Antarctica and the scientific research conducted there.

Location

ASPA 155, Cape Evans, Ross Island; ASPA 157, Backdoor Bay, Cape Royds, Ross Island; ASPA 158 Hut Point, Ross Island.

Dates of Permitted Activities

November 1-December 1, 2018.

Permit Application: 2019-004

2. Applicant: Brenda Hall, Climate Change Institute, University of Maine, Orono, ME 04469.

Activity for Which Permit Is Requested

Take, Import into USA. The applicant would collect samples of long-dead penguins and seals from islands in the vicinity of Pine Island Bay. The samples would be collected from beach sediments by shovel and would consist of small fragments of bone, skin, and eggshells. The samples would be imported in the United States for analysis. The applicant holds a marine mammal permit exemption letter from the National Marine Fisheries Service for the seal samples to document that the samples qualify as pre-Marine Mammal Protection Act specimens.

Location

Pine Island Bay, Antarctica.

Dates of Permitted Activities

January 15-April 1, 2019.

Permit Application: 2019-006

3. Applicant: Michelle LaRue, University of Minnesota, 116 Church Street SE, Minneapolis, MN 55455.

Activity for Which Permit Is Requested

Harmful Interference, Enter Antarctic Specially Protected Areas (ASPAs). Applicant would conduct aerial surveys over emperor penguin colonies at Beaufort Island, Franklin Island, Cape Washington, Coulman Island, Cape Crozier, and Cape Roget. Photographs of the colonies would be taken at an oblique angle at an altitude of approximately 500m from a helicopter or a fixed wing aircraft. The photographs would be used to assess the spatial extent of the colony, number of individual penguins, and habitat characteristics. The aerial surveys may involve flights over ASPAs 105, 124, and 173. The applicant would also enter ASPA 124, Cape Crozier, on foot, to photograph the emperor penguin colony if weather conditions do not allow for overflight.

Location

Ross Sea Region, Antarctica; ASPA 105, Beaufort Island; Franklin Island; ASPA 173, Cape Washington and Sliverfish Bay; Coulman Island; ASPA 124, Cape Crozier; Cape Roget.

Dates of Permitted Activities

October 15-November 30, 2018.

Suzanne H. Plimpton,
Reports Clearance Officer, National Science Foundation.

[FR Doc. 2018-17667 Filed 8-15-18; 8:45 am]

BILLING CODE 7555-01-P